DEPARTMENT OF DEFENSE

Office of the Secretary

Joint Europe Africa Deployment & Distribution Conference 2011: “Adapting To Challenge and Change”

AGENCY: United States Africa Command, Department of Defense (DoD).

ACTION: Notice of conference.

SUMMARY: This document announces that U.S. Africa Command (AFRICOM) will convene their annual Joint Europe Africa Deployment and Distribution Conference (JEADDC), featuring a keynote address, panel discussions, and working groups involving agency personnel, members of the trade community, academia, and other government agencies. Conference participants will focus on transportation and logistics strategy, capabilities, initiatives, issues, and concerns in Africa and Europe. The keynote speaker will be Lieutenant General (Retired) Claude V. “Chris” Christianson.

DATES: Monday, December 5, 2011 (`icebreaker' social—6 p.m.-9 p.m.). Tuesday, December 6, 2011 (opening remarks, keynote address, and panel discussions—8:15 a.m.-5 p.m.). Wednesday, December 7, 2011 (working groups—8:30 a.m.-5 p.m.). Thursday, December 8, 2011 (working groups working groups and out brief —8:30 a.m.-5 p.m.).

ADDRESSES: The JEADDC will be held at the Edelweiss Lodge and Resort at St. Martin Strasse 120, 82467 Garmisch-Partenkirchen, Germany. Instructions will be provided after registration to ensure non-installation pass holders may access the installation.

FOR FURTHER INFORMATION CONTACT: AFRICOM Deployment and Distribution Operations Center +49 711-729-3669, or at raymond.hasenyager@africom.mil. To obtain the latest information on JEADDC and to register on-line, visit the JEADDC Web site at http://www.jeaddc.com.

SUPPLEMENTARY INFORMATION: The agenda for JEADDC will be announced at a later date on the JEADDC Web site. There is no registration fee for the event. For attendees staying at the Edelweiss Lodge and Resort, the conference fee is included in the room rate when reservation code 1112JEADDC is used. Attendees using other accommodations will be charged $22.00 for the Monday, December 5, 2011 icebreaker event and a $42.50/day conference fee by the resort (the daily conference fee does not include any meals). Interested parties are requested to register for JEADDC by Tuesday, November 1, 2011. Attendees wishing to stay at the Edelweiss Lodge and Resort must reserve a room by Monday, October 3, 2011 using reservation code 1112JEADDC. Due to the overwhelming interest to attend past JEADDCs, each company is requested to limit their company's registrations to no more than three participants, in order to afford equal representation from all members of the defense deployment and distribution community. Uniform/dress for military attendees is uniform of the day (UOD-ABU/ACU) and business casual (tie optional) for civilian attendees. Hotel accommodations must be reserved separately from the conference registration. Hotel information: Edelweiss Lodge & Resort, +49 8821-9440, $190.50/night Monday, December 5, 2011 and $178.50/night Tuesday, December 6, 2011 through Friday, December 9, 2011—Edelweiss room rates include conference attendance, Monday evening `icebreaker', and breakfast and lunch Tuesday, Wednesday, and Thursday. http://www.edelweisslodgeandresort.com/home.html or another hotel of the attendee's choosing.

Dated: September 23, 2011.
Aaron Siegel,
Alternate OSD Federal Register Liaison Officer, Department of Defense.

[FR Doc. 2011-24896 Filed 9-27-11; 8:45 am]

BILLING CODE 5001-06-P